Title 3—

The President

Memorandum of May 24, 2019

Delegation of Functions and Authorities Under the Nicaragua Human Rights and Anticorruption Act of 2018

Memorandum for the Secretary of State [and] the Secretary of the Treasury

By the authority vested in me as President by the Constitution and the laws of the United States of America, including section 301 of title 3, United States Code, I hereby:

(a) delegate to the Secretary of the Treasury, in consultation with the Secretary of State, the functions and authorities vested in the President by section 5(a) of the Nicaragua Human Rights and Anticorruption Act of 2018 (Public Law 115-335) (the “Act”), with respect to making a determination under the standards set forth in sections 5(a)(1)-(4) of the Act;

(b) delegate to the Secretary of the Treasury the functions and authorities vested in the President by section 5(a) of the Act, with respect to the imposition of the sanctions in section 5(c)(1)(A) of the Act following a determination by the Secretary of the Treasury under section 5(a);

(c) delegate to the Secretary of the Treasury, in consultation with the Secretary of State, the functions and authorities vested in the President by section 5(d) of the Act;

(d) delegate to the Secretary of State the functions and authorities vested in the President by section 5(a) of the Act, with respect to the imposition of the sanctions in section 5(c)(1)(B) of the Act following a determination by the Secretary of the Treasury under section 5(a); and

(e) delegate to the Secretary of State, in consultation with the Secretary of the Treasury, the functions and authorities vested in the President by section 6(b) of the Act.

The functions and authorities delegated by this memorandum shall be exercised in coordination with departments and agencies through the National Security Presidential Memorandum-4 process. Any reference in this memorandum to the Act shall be deemed to be a reference to any future Act that is the same or substantially the same as such provision.

The Secretary of State is authorized and directed to publish this memorandum in the Federal Register.

THE WHITE HOUSE,

Washington, May 24, 2019

[FR Doc. 2019-12695

Filed 6-12-19; 11:15 am]

Billing code 4710-10-P